NATIONAL ARCHIVES AND RECORDS ADMINISTRATION

[NARA-2021-004]

Agency Information Collection Activities: Submission for OMB Review; Comment Request

AGENCY: National Archives and Records Administration (NARA).

ACTION: Notice.

SUMMARY: We have submitted a request to the Office of Management and Budget (OMB) for approval to continue to collect information through a voluntary survey of visitors to the National Archives Museum and building in Washington, DC. In order to measure whether the National Archives Museum is successfully achieving its goals, as well as to determine if we need to make any modifications, we conduct a survey of those who have visited the Museum, using the American Association of State and Local History (AASLH) customer survey. This is a 12-minute questionnaire given to a random sample of those exiting this location in downtown Washington, DC. We invite you to comment on this proposed information collection pursuant to the Paperwork Reduction Act of 1995.

DATES: OMB must receive comments in writing on or before November 25, 2020.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gob or by telephone at 301.837.1694 with any requests for additional information.

SUPPLEMENTARY INFORMATION: Pursuant to the Paperwork Reduction Act of 1995 (Pub. L. 104-13), we invite the public and other Federal agencies to comment on proposed information collections. We published a notice of proposed collection for this information collection on August 7, 2020 (85 FR 47989) and we received no comments. We are therefore submitting the described information collection to OMB for approval.

If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

In this notice, we solicit comments concerning the following information collection:

Title: NARA Visitors Study.

OMB number: 3095-0067.

Agency form number: N/A.

Type of review: Regular.

Affected public: Individuals who visit the National Archives Experience in Washington, DC.

Estimated number of respondents: 200.

Estimated time per response: 12 minutes.

Frequency of response: On occasion (when an individual visits the National Archives Museum in Washington, DC).

Estimated total annual burden hours: 40 hours.

Abstract: The general purpose of this voluntary data collection is to benchmark NARA's performance in relation to other history museums. Information collected from visitors will assess the overall impact, expectations, presentation, logistics, motivation, demographic profile and learning experience. Once we analyse the compiled information from the surveys as a set, the collected information will assist us to determine our success in achieving the Museum's goals.

Swarnali Haldar,
Executive for Information Services/CIO.

[FR Doc. 2020-23617 Filed 10-23-20; 8:45 am]

BILLING CODE 7515-01-P